NUCLEAR REGULATORY COMMISSION

[Docket Nos. 50-266-SLR and 50-301-SLR; ASLBP No. 21-971-02-SLR-01]

NextEra Energy Point Beach, LLC; Establishment of Atomic Safety and Licensing Board

Pursuant to delegation by the Commission, see 37 FR 28,710 (Dec. 29, 1972), and the Commission's regulations, see, e.g., 10 CFR 2.104, 2.105, 2.300, 2.309, 2.313, 2.318, 2.321, notice is hereby given that an Atomic Safety and Licensing Board (Board) is being established to preside over the following proceeding:

NextEra Energy Point Beach, LLC

(Point Beach Nuclear Plant, Units 1 and 2)

This proceeding involves an application seeking a twenty-year subsequent license renewal of Renewed Facility Operating License Nos. DPR-24 and DPR-27, which authorize NextEra Energy Point Beach, LLC to operate the Point Beach Nuclear Plant, Units 1 and 2, located near Manitowoc, Wisconsin, until, respectively, October 5, 2030 and March 8, 2033. In response to a notice published in the Federal Register announcing the opportunity to request a hearing, see 86 FR 6684 (Jan. 22, 2021), a hearing request was filed on March 23, 2021, on behalf of Physicians for Social Responsibility Wisconsin.

The Board is comprised of the following Administrative Judges:

William J. Froehlich, Chairman, Atomic Safety and Licensing Board Panel, U.S. Nuclear Regulatory Commission, Washington, DC 20555-0001

Nicholas G. Trikouros, Atomic Safety and Licensing Board Panel, U.S. Nuclear Regulatory Commission, Washington, DC 20555-0001

Dr. Gary S. Arnold, Atomic Safety and Licensing Board Panel, U.S. Nuclear Regulatory Commission, Washington, DC 20555-0001

All correspondence, documents, and other materials shall be filed in accordance with the NRC E-Filing rule. See 10 CFR 2.302.

Dated: March 29, 2021.
Edward R. Hawkens,
Chief Administrative Judge, Atomic Safety and Licensing Board Panel, Rockville, Maryland.

[FR Doc. 2021-06785 Filed 4-1-21; 8:45 am]

BILLING CODE 7590-01-P